DEPARTMENT OF THE INTERIOR

National Park Service

Notice of Extension of Concession Contracts

AGENCY: National Park Service, Interior.

ACTION: Public notice.

DATES: Effective Date: January 1, 2010.

FOR FURTHER INFORMATION CONTACT: Jo A. Pendry, Chief, Commercial Services Program, National Park Service, 1201 Eye Street, NW., 11th Floor, Washington, DC, 20005, Telephone 202/513-7156.

SUMMARY: Pursuant to 36 CFR 51.23, public notice is hereby given that the National Park Service proposes to extend the following expiring concession contracts for a period of up to 1 year, or until such time as a new contract is executed, whichever occurs sooner.

SUPPLEMENTARY INFORMATION: All of the listed concession authorizations will expire by their terms on or before December 31, 2009. The National Park Service has determined that the proposed short-term extensions are necessary in order to avoid interruption of visitor services and has taken all reasonable and appropriate steps to consider alternatives to avoid such interruption.

Conc ID No. | Concessioner name | Park
GLCA002-88 | Aramark Glen | Canyon National Recreation Area.
GRTE004-98 | Triangle X Ranch, LLP | Grand Teton National Park.
JODR002-90 | International Leisure Hosts, Ltd | John D. Rockefeller, Jr. Memorial Parkway.
NACC001-89 | Golf Course Specialist, Inc | National Capital Parks—Central.
NACC004-89 | Landmark Services Tourmobile, Inc | National Capital Parks—Central.
FIIS004-02 | Davis Park Ferry Co | Fire Island National Seashore.
GATE003-98 | Marinas of the Future, Inc | Gateway National Recreation Area.
CHIS001-98 | Island Packers, Inc | Channel Islands National Park.
LAME017-05 | Black Canyon/Willow Beach River Adventures | Lake Mead National Recreation Area.
PORE003-98 | Golden Gate Council of American Youth Hostels | Point Reyes National Seashore.
BISC002-04 | Biscayne National Underwater Park, Inc | Biscayne National Park.
BLRI004-88 | Virginia Peaks of Otter | Blue Ridge Parkway.
EVER004-98 | TRF Concessions Specialists of Florida, Inc | Everglades National Park.
GUTS001-03 | Dudley Food and Beverage | Gulf Islands National Seashore.

FOR FURTHER INFORMATION CONTACT: Jo A. Pendry, Chief, Commercial Services Program, National Park Service, 1201 Eye Street, NW., 11th Floor, Washington, DC 20005, Telephone 202/513-7156.

Dated: November 24, 2009.
Katherine H. Stevenson,
Assistant Director, Business Services.

[FR Doc. E9-31126 Filed 1-4-10; 8:45 am]

BILLING CODE 4312-53-M